DEPARTMENT OF TRANSPORTATION

Federal Aviation Administration

Environmental Impact Statement: Juneau International Airport, Juneau, AK

AGENCY: Federal Aviation Administration (FAA), DOT.

ACTION: Supplemental Notice of Intent.

SUMMARY: The Federal Aviation Administration announces extension of scoping comment period for Environmental Impact Statement (EIS) assessing implementation of projects proposed at the Juneau International Airport.

RESPONSIBLE OFFICIAL: Patricia A. Sullivan, Environmental Specialist, Federal Aviation Administration, Alaskan Region, Airports Division, 222 W. 7th Avenue, #14, Anchorage, AK 99513.

WRITTEN COMMENTS: Ken Wallace, Project Manager, SWCA, Inc., 230 South 500 East, Suite 380, Salt Lake City, UT 84102. Email: kwallace@swca.com.

FOR FURTHER INFORMATION CONTACT: Cathryn Collis, Compliance and Process Coordinator, SWCA, 230 South 500 East, Suite 380, Salt Lake City, UT 84102. Email: ccollis@swca.com.

SUPPLEMENTARY INFORMATION: The Federal Aviation Administration published a Notice of Intent on June 1, 2001 to prepare and consider an EIS for implementation of proposed projects at the Juneau International Airport. Major projects proposed to be assessed in the EIS include: Creation of additional Runway Safety Area (RSA) centered about the runway that is 500 feet wide by the length of the runway plus 1,000 feet beyond each runway end; installation of a Medium Approach Lighting System with Rails (MALRS) to improve the approach to Runway 26; construction of a Snow Removal Equipment Building to provide needed storage space for the snow removal fleet; and construction of additional Aviation Development Areas to provide adequate facilities to accommodate the growing demand and tourism needs of helicopters and fixed wing aircraft. Construction of an access road between the Fuel Tank Farm and the Airport will also be evaluated in the EIS.

FAA has conducted initial public and interagency scoping meetings concerning the EIS and proposed actions, and has determined that additional time should be allowed for interested parties to submit written comments on the scope of the environmental study. Therefore, FAA will accept written comments through September 30, 2001. Comments may be submitted in writing to the address identified in FOR FURTHER INFORMATION CONTACT or through the comment submittal form found on the project web site at www.jnu-eis.org. An additional public meeting will be held in Juneau during the scoping comment period. Date and time for that meeting will be advertised in the daily Juneau Empire and on the project web site.

Issued in Anchorage, Alaska on August 3, 2001.
Barbara J. Johnson,
Acting Manager, Airports Division, AAL-600, Alaskan Region.

[FR Doc. 01-20910 Filed 8-17-01; 8:45 am]

BILLING CODE 4910-13-M